COMMISSION ON CIVIL RIGHTS

Notice of Public Meetings of the District of Columbia Advisory Committee to the U.S. Commission on Civil Rights

AGENCY: U.S. Commission on Civil Rights.

ACTION: Notice of public meetings.

SUMMARY: Notice is hereby given, pursuant to the provisions of the rules and regulations of the U.S. Commission on Civil Rights (Commission) and the Federal Advisory Committee Act, that the District of Columbia Advisory Committee (Committee) to the U.S. Commission on Civil Rights will hold public meetings via Zoom. The purpose of these meetings is to plan, discuss, and vote, as needed, on matters related to the Committee's civil rights project.

DATES:

Tuesday, June 20, 2023, from 12:00 p.m.-1:00 p.m. ET.

Tuesday, July 18, 2023, from 12:00 p.m.-1:00 p.m. ET.

Tuesday, August 15, 2023, from 12:00 p.m.-1:00 p.m. ET.

Tuesday, September 19, 2023, from 12:00 p.m.-1:00 p.m. ET.

Tuesday, October 17, 2023, from 12:00 p.m.-1:00 p.m. ET.

Tuesday, November 21, 2023, from 12:00 p.m.-1:00 p.m. ET.

Tuesday, December 19, 2023, from 12:00 p.m.-1:00 p.m. ET.

ADDRESSES: These meetings will be held via Zoom.

Registration Link (Audio/Visual): https://www.zoomgov.com/j/1613299890.

Join by Phone (Audio Only): 1-833-435-1820 USA Toll-Free; Meeting ID: 161 329 9890#.

FOR FURTHER INFORMATION CONTACT: Ivy Davis, Director of Eastern Regional Office and Designated Federal Officer, at ero@usccr.gov or 1-202-376-7533.

SUPPLEMENTARY INFORMATION: These Committee meetings are available to the public through the registration link above. Any interested member of the public may attend these meetings. An open comment period will be provided to allow members of the public to make a statement as time allows. Per the Federal Advisory Committee Act, public minutes of these meetings will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email svillanueva@usccr.gov at least 10 business days prior to the meeting.

Members of the public are entitled to submit written comments; the comments must be received in the regional office within 30 days following each meeting. Written comments may be emailed to Ivy Davis at ero@usccr.gov. Persons who desire additional information may contact the Regional Programs Coordination Unit at 1-202-376-7533.

Records generated from this meeting may be inspected and reproduced at the Regional Programs Coordination Unit Office, as they become available, both before and after the meeting. Records of the meetings will be available via www.facadatabase.gov under the Commission on Civil Rights, District of Columbia Advisory Committee link. Persons interested in the work of this Committee are directed to the Commission's website, http://www.usccr.gov, or may contact the Regional Programs Coordination Unit at svillanueva@usccr.gov.

Agenda

I. Meeting Announcement & Roll Call

II. Welcome

III. Project Planning

IV. Other Business

V. Next Meeting

VI. Public Comment

VII. Adjourn

Dated: May 30, 2023.
David Mussatt,
Supervisory Chief, Regional Programs Unit.

[FR Doc. 2023-11829 Filed 6-2-23; 8:45 am]

BILLING CODE P